DEPARTMENT OF COMMERCE

National Oceanic and Atmospheric Administration

[I.D. 080400E]

Gulf of Mexico Fishery Management Council; Public Meeting

AGENCY: National Marine Fisheries Service (NMFS), National Oceanic and Atmospheric Administration (NOAA), Commerce.

ACTION: Notice of potential rescheduling of a public meeting.

SUMMARY: The Gulf of Mexico Fishery Management Council (Council) will convene a public meeting of the Reef Fishery Stock Assessment Panel if necessary, due to the possibility of hurricane Debby.

DATES: The meeting may be held on Monday, September 11, 2000, through Friday, September 15, 2000.

ADDRESSES: The meeting will be held at the Adam’s Mark Hotel, 64 South Water Street, Mobile, AL 36602.

FOR FURTHER INFORMATION CONTACT: Steven Atran, Population Dynamics Statistician, Gulf of Mexico Fishery Management Council, 3018 U.S. Highway 301 North, Suite 1000, Tampa, FL 33619; telephone: 813-228-2815.

SUPPLEMENTARY INFORMATION: The initial meeting notice published in the Federal Registeron August 14, 2000, (65 FR 49542). In the event that the meeting scheduled for Monday, August 28, 2000, starting at 9:00 a.m. through Friday, September l, 2000, concluding at 3:00 p.m. at the NMFS Southeast Fisheries Science Center, 75 Virginia Beach Drive, Miami, FL is cancelled due to Hurricane Debby, the meeting will be held on Monday, September 11, 2000, through Friday, September 15, 2000, at the Adam’s Mark Hotel, 64 South Water Street, Mobile AL 36602. All other information previously published remains the same.

Dated: August 24, 2000.
Bruce C. Morehead
Acting Director, Office of Sustainable Fisheries, National Marine Fisheries Service.

FR Doc. 00-22066 File 8-28-00; 8:45 am

Billing Code: 3510-22-S